DEPARTMENT OF HEALTH AND HUMAN SERVICES

Centers for Disease Control and Prevention

[60Day-05AY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 371-5976 or send comments to Sandi Gambescia, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Economic Evaluation Of Walking Behavior In Sedentary Adults Age 50 Years And Older—New—National Center for Chronic Disease Prevention and Health Promotion (NCCDPHP), Centers for Disease Control and Prevention (CDC).

Background and Brief Description of the Proposed Project and Data Collection

CDC is requesting approval of a pilot test to better understand the barriers to increased physical activity and the potential impact of modest financial incentives to promote walking among sedentary adults aged 50 years and older. The Behavioral Risk Factor Surveillance System (BRFSS) data reveal that Americans in general and older adults in particular do not meet minimum recommendations for levels of physical activity. Moderate increases in physical activity would decrease the incidence of diseases promoted by inactivity, including several types of cancer, diabetes, and heart disease. However, strategies that effectively motivate sedentary people to increase and maintain levels of regular physical activity have yet to be identified. CDC proposes to use this effort to investigate the impact of one type of intervention (financial incentives) on levels of physical activity.

CDC will conduct a stated preference (SP) survey to identify the barriers to leisure time physical activity and the size of the incentives necessary to overcome these barriers among sedentary adults age 50 and older. A pilot test of the impact of specific amounts of financial incentives on levels of walking among this population will also be conducted via a reveled preference (RP) survey in the Raleigh, North Carolina, metropolitan area.

The SP survey will be a one-time effort in which respondents belonging to an online survey panel will complete a computer survey over the Internet. In the RP portion of the project, a local sample of respondents will complete an identical survey on paper. The RP respondents will also wear a pedometer for 4 weeks and record the number of steps walked in a diary. Data will be collected from the diaries and from the 7-day history in each pedometer unit. Respondents will receive a modest incentive payment for the number of steps they walk above a predetermined floor and below a predetermined ceiling.

The results of the survey will be used to gauge the size of the incentives necessary to motivate behavior change in a real world setting. The results of the pilot test will provide initial evidence of the magnitude of the incentives necessary to increase levels of physical activity among a specific sample of older adults. The total costs and effectiveness (changes in physical activity) can then be compared to similar data emanating from other interventions designed to increase levels of physical activity. Statistical analysis of the SP survey and RP data will be used. Since neither form of data collection is based on a random sample, conclusions will be preliminary and not generalizable. The analysis will be used to evaluate whether further comprehensive research on this subject should be undertaken. There are no costs to respondents except their time to participate in the survey.

Annualized Burden Table
Respondents | Number of respondents | Number of responses per respondent | Avg. burden per response (in hrs) | Total burden hours
Online SP survey | 500 | 1 | 25/60 | 208
RP survey | 300 | 1 | 1.5 | 450
RP group—recording daily steps | 300 | 4 | 20/60 | 400
Total |  |  |  | 1058

Dated: January 14, 2005.
Betsey Dunaway,
Acting Reports Clearance Officer, Office of the Chief Science Officer, Centers for Disease Control and Prevention.

[FR Doc. 05-1492 Filed 1-26-05; 8:45 am]

BILLING CODE 4163-18-P